OFFICE OF PERSONNEL MANAGEMENT

[OMB Control No. 3206-0167; Forms RI 34-1 and RI 34-3]

Proposed Information Collection; Request for Comment on a Revised Information Collection

AGENCY: Office of Personnel Management.

ACTION: Notice.

SUMMARY: In accordance with the Paperwork Reduction Act of 1995 (Pub. L. 104-13, May 22, 1995), this notice announces that the Office of Personnel Management (OPM) intends to submit to the Office of Management and Budget (OMB) a request for comment on a revised information collection. This information collection, “Financial Resources Questionnaire” (OMB Control No. 3206-0167; form RI 34-1), collects detailed financial information for use by OPM to determine whether to agree to a waiver, compromise, or adjustment of the collection of erroneous payments from the Civil Service Retirement and Disability Fund. “Notice of Amount Due Because Of Annuity Overpayment” (OMB Control No. 3206-0167; form RI 34-3), informs the annuitant about the overpayment and collects information from the annuitant about how repayment will be made.

Comments are particularly invited on whether this collection of information is necessary for the proper performance of functions of the Office of Personnel Management, and whether it will have practical utility; whether our estimate of the public burden of this collection of information is accurate and based on valid assumptions and methodology; and ways in which we can minimize the burden of the collection of information on those who are to respond through the use of appropriate technological collection techniques or other forms of information technology.

Approximately 520 RI 34-1 and 1,561 RI 34-3 forms are completed annually. Each form takes approximately 60 minutes to complete. The annual estimated burden is 520 hours and 1,561 hours respectively. The total annual estimated burden is 2,081 hours.

For copies of this proposal, contact Margaret A. Miller by telephone at (202) 606-2699, by FAX (202) 418-3251, or by e-mail at Margaret.Miller@opm.gov. Please include a mailing address with your request.

DATES: Comments on this proposal should be received within 60 calendar days from the date of this publication.

ADDRESSES: Send or deliver comments to: Ronald W. Melton, Deputy Assistant Director, Retirement Services Program, Center for Retirement and Insurance Services, U.S. Office of Personnel Management, 1900 E Street, NW., Room 3305, Washington, DC 20415-3500.

FOR FURTHER INFORMATION CONTACT: Cyrus S. Benson, Team Leader, Publications Team, U.S. Office of Personnel Management, 1900 E Street, NW., Room 4H28, Washington, DC 20415, RIS Support Services/Support Group, (202) 606-0623.

U.S. Office of Personnel Management.
Howard Weizmann,
Deputy Director.

[FR Doc. E8-23608 Filed 10-6-08; 8:45 am]

BILLING CODE 6325-38-P